DEPARTMENT OF COMMERCE

International Trade Administration

[A-583-828]

Stainless Steel Wire Rod From Taiwan: Notice of Rescission of Antidumping Duty Administrative Review

AGENCY: Import Administration, International Trade Administration, Department of Commerce.

ACTION: Notice of rescission of antidumping duty administrative review for the period September 1, 2000 through August 31, 2001.

SUMMARY: On October 26, 2001, the Department of Commerce (the Department) initiated an administrative review of the antidumping duty order on Stainless Steel Wire Rod (SSWR) from Taiwan for one manufacturer/exporter of subject merchandise, Walsin Lihwa Corporation (Walsin), for the period September 1, 2000 through August 31, 2001. The Department is rescinding this review after receiving a timely withdrawal from the party requesting this review.

EFFECTIVE DATE: December 26, 2001.

FOR FURTHER INFORMATION CONTACT: Alexander Amdur or Karine Gziryan, AD/CVD Enforcement, Group II, Office 4, Import Administration, International Trade Administration, U.S. Department of Commerce, 14th Street and Constitution Avenue, NW, Washington, DC 20230; telephone (202) 482-5346 or (202) 482-4081, respectively; fax (202) 482-5105.

SUPPLEMENTARY INFORMATION:

The Applicable Statute and Regulations

Unless otherwise indicated, all citations to the Tariff Act of 1930, as amended (the Act), are references to the provisions in effect as of January 1, 1995, the effective date of the amendments made to the Act by the Uruguay Round Agreements Act (URAA). In addition, unless otherwise indicated, all citations to the Department's regulations are to the regulations as codified at 19 CFR part 351 (2001).

Background

On September 25, 2001, the Department received a timely request from Walsin that we conduct an administrative review of its sales for the period September 1, 2000 through August 31, 2001. On October 23, 2001, the Department initiated an administrative review of the antidumping duty order on SSWR from Taiwan for the period of review (POR), September 1, 2000 through August 31, 2001, in order to determine whether merchandise imported into the United States is being sold at dumped prices. On October 26, 2001, the Department published in the Federal Register a notice of initiation of this administrative review on SSWR from Taiwan for the POR. See Initiation of Antidumping and Countervailing Duty Administrative Reviews and Request for Revocation in Part, 66 FR 54195 (October 26, 2001). On November 21, 2001, Walsin withdrew its request for a review.

Rescission of 2000-2001 Antidumping Duty Administrative Review

Pursuant to 19 CFR 351.213(d)(1), the Department will rescind an administrative review if a party that requested the review withdraws the request within 90 days of the date of publication of the notice of initiation of the requested review. Because Walsin submitted its request for rescission within the 90-day time limit and there were no other requests for review from an interested party, we are rescinding this review. As such, we will issue appropriate assessment instructions directly to the U. S. Customs Service.

This notice serves as a reminder to parties subject to administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation.

This notice is in accordance with section 751 of the Act and section 19 CFR 351.213(d)(4) of the Department's regulations.

Dated: December 17, 2001.
Bernard T. Carreau,
Deputy Assistant Secretary for Import Administration, Group II.

[FR Doc. 01-31641 Filed 12-21-01; 8:45 am]

BILLING CODE 3510-DS-P